DEPARTMENT OF HEALTH AND HUMAN SERVICES

Centers for Disease Control and Prevention

[30DAY-37-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project: Tests and Requirements for Certification and Approval of Respiratory Protective Devices (42 CFR 84 Regulation) OMB No. 0920-0109—Extension—National Institute for Occupational Safety and Health (NIOSH), Centers for Disease Control and Prevention (CDC). The regulatory authority for the National Institute for Occupational Safety and Health (NIOSH) certification program for respiratory protective devices is found in the Mine Safety and Health Amendments Act of 1977 (30 U.S.C. 577a, 651 et seq., and 657(g)) and the Occupational Safety and Health Act of 1970 (30 U.S.C. 3, 5, 7, 811, 842(h), 844). These regulations have, as their basis, the performance tests and criteria for approval of respirators used by millions of American construction workers, miners, painters, asbestos removal workers, fabric mill workers, and fire fighters. In addition to benefitting industrial workers, the improved testing requirements also benefit health care workers implementing the current CDC Guidelines for Preventing the Transmission of Tuberculosis. Regulations of the Environmental Protection Agency (EPA) and the Nuclear Regulatory Commission (NRC) also require the use of NIOSH-approved respirators. NIOSH, in accordance with implementing regulations 42 CFR 84: (1) Issues certificates of approval for respirators which have met improved construction, performance, and protection requirements; (2) establishes procedures and requirements to be met in filing applications for approval; (3) specifies minimum requirements and methods to be employed by NIOSH and by applicants in conducting inspections, examinations, and tests to determine effectiveness of respirators; (4) establishes a schedule of fees to be charged applicants for testing and certification, and (5) establishes approval labeling requirements. The total annual burden for this data collection is 97,783 hours.

Section/data type | Average number of respondents | Responses per respondent | Average burden per response (in hrs)
84.11 / Applications | 61 | 7 | 64
84.33 / Labeling | 61 | 7 | 2
84.35 / Modifications | 61 | 7 | 79
84.41 / Reporting | 61 | 7 | 23
84.43 / Record keeping | 61 | 7 | 57
84.257 / Labeling | 61 | 7 | 2
84.1103 / Labeling | 61 | 7 | 2

Dated: June 11, 2001.
Chuck Gollmar,
Acting Associate Director for Policy, Planning, and Evaluation, Centers for Disease Control and Prevention.

[FR Doc. 01-15357 Filed 6-15-01; 8:45 am]

BILLING CODE 4163-18-P